DEPARTMENT OF HOUSING AND URBAN DEVELOPMENT

[Docket No. FR-4652-N-13]

Announcement of OMB Approval Number for the Requirements for the Designated Housing Projects Plan

AGENCY: Office of the Assistant Secretary for Public and Indian Housing, HUD.

ACTION: Announcement of OMB approval number.

SUMMARY: The purpose of this notice is to announce the OMB approval number for the collection of information pertaining to the requirements for a designated housing projects plan.

FOR FURTHER INFORMATION CONTACT: Mildred M. Hamman, Department of Housing and Urban Development, 451 7th Street, SW., Washington, DC 20410, telephone (202) 708-3642 Extension 4128. This is not a toll-free number.

SUPPLEMENTARY INFORMATION: In accordance with the Paperwork Reduction Act of 1995 (44 U.S.C. Chapter 35, as amended), this notice advises that OMB has responded to the Department's request for approval of the information collection pertaining to requirements for a designated housing projects plan. The approval number for this information collection is 2577-0192, which expires on 6/30/2004.

An agency may not conduct or sponsor, and a person is not required to respond to, a collection of information, unless it displays a currently valid OMB control number.

Dated: July 3, 2001.
Paula O. Blunt,
Acting General Deputy, Assistant Secretary for Public and Indian Housing.

[FR Doc. 01-17760 Filed 7-16-01; 8:45 am]

BILLING CODE 4210-33-M